DEPARTMENT OF ENERGY

Federal Energy Regulatory Commission

Combined Notice of Filings #1

Take notice that the Commission received the following electric corporate filings:

Docket Numbers: EC12-78-000.

Applicants: Algonquin Power Fund (America) Inc., Pocahontas Prairie Wind, LLC, Sandy Ridge Wind, LLC.

Description: Application for Authorization for Disposition of Jurisdictional Facilities and Request for Expedited Action of Sandy Ridge Wind, LLC, et al.

Filed Date: 3/9/12.

Accession Number: 20120309-5204.

Comments Due: 5 p.m. ET 3/30/12.

Take notice that the Commission received the following electric rate filings:

Docket Numbers: ER00-3080-007.

Applicants: Otter Tail Power Company.

Description: Otter Tail Power Company submits corrections to its December 30, 2011 filing of its updated market power analysis to make wholesale power sales at market-based rates.

Filed Date: 3/9/12.

Accession Number: 20120309-5197.

Comments Due: 5 p.m. ET 3/30/12.

Docket Numbers: ER10-1414-001; ER11-1881-003; ER10-3166-001; ER11-1890-003; ER01-138-009; ER11-1882-003; ER10-1406-002; ER11-1883-003; ER11-1885-003; ER10-1416-002; ER11-1892-003; ER11-1886-003; ER11-1893-003; ER11-1887-003; ER11-1889-003; ER11-1894-003; ER10-1345-003; ER10-1343-003; ER10-1346-002; ER10-1348-002; ER11-2534-002.

Applicants: Burley Butte Wind Park, LLC, Cadillac Renewable Energy LLC, Camp Reed Wind Park, LLC, CPI Energy Services (US) LLC, CPIDC, Inc., Delta Person Limited Partnership, Frederickson Power L.P., Golden Valley Wind Park, LLC, Lake Cogen Ltd., ManChief Power Company LLC, Milner Dam Wind Park, LLC, Morris Cogeneration, LLC, Oregon Trail Wind Park, LLC, Pasco Cogen, Ltd., Payne's Ferry Wind Park, LLC, Pilgrim Stage Station Wind Park, LLC, Salmon Falls Wind Park, LLC, Thousand Springs Wind Park, LLC, Tuana Gulch Wind Park, LLC, Yahoo Creek Wind Park, LLC, Auburndale Power Partners, Limited Partners, L.P.

Description: Supplement to Notice of Non-Material Change of Status of Auburndale Power Partners, L.P., et al.

Filed Date: 3/9/12.

Accession Number: 20120309-5198.

Comments Due: 5 p.m. ET 3/30/12.

Docket Numbers: ER10-1459-003.

Applicants: FirstEnergy Solutions Corp.

Description: Second Revised Affiliate Sales Tariff to be effective 6/1/2012.

Filed Date: 3/8/12.

Accession Number: 20120308-5134.

Comments Due: 5 p.m. ET 3/29/12.

Docket Numbers: ER12-539-003.

Applicants: Atlantic Power Energy Services (US) LLC.

Description: Supplement to Notice of Non-Material Change in Status to be effective 5/8/2012.

Filed Date: 3/9/12.

Accession Number: 20120309-5135.

Comments Due: 5 p.m. ET 3/30/12.

Docket Numbers: ER12-540-003.

Applicants: APDC, Inc.

Description: Supplement to Notice of Non-Material Change in Status to be effective 5/8/2012.

Filed Date: 3/9/12.

Accession Number: 20120309-5131.

Comments Due: 5 p.m. ET 3/30/12.

Docket Numbers: ER12-541-001.

Applicants: Frederickson Power L.P.

Description: Supplement to Notice of Non-Material Change in Status to be effective 5/8/2012.

Filed Date: 3/9/12

Accession Number: 20120309-5145.

Comments Due: 5 p.m. ET 3/30/12.

Docket Numbers: ER12-544-001.

Applicants: Morris Cogeneration, LLC.

Description: Supplement to Notice of Non-Material Change in Status to be effective 5/8/2012.

Filed Date: 3/9/12.

Accession Number: 20120309-5154.

Comments Due: 5 p.m. ET 3/30/12.

Docket Numbers: ER12-546-001.

Applicants: Pasco Cogen, Ltd.

Description: Supplement to Notice of Non-Material Change in Status to be effective 5/8/2012.

Filed Date: 3/9/12.

Accession Number: 20120309-5127.

Comments Due: 5 p.m. ET 3/30/12.

Docket Numbers: ER12-1215-001.

Applicants: New York Independent System Operator, Inc.

Description: NYISO Amendment to Correct DAMAP Filing to be effective 3/7/2012.

Filed Date: 3/9/12.

Accession Number: 20120309-5166.

Comments Due: 5 p.m. ET 3/30/12.

Docket Numbers: ER12-1238-000.

Applicants: Broken Bow Wind, LLC

Description: Petition of Broken Bow Wind, LLC for Order Accepting Market-Based Rate Tariff to be effective 5/8/2012.

Filed Date: 3/9/12.

Accession Number: 20120309-5132.

Comments Due: 5 p.m. ET 3/30/12.

Docket Numbers: ER12-1239-000.

Applicants: Crofton Bluffs Wind, LLC.

Description: Crofton Bluffs Wind, LLC Petition for Market-Based Rates to be effective 5/8/2012.

Filed Date: 3/9/12.

Accession Number: 20120309-5134.

Comments Due: 5 p.m. ET 3/30/12.

Docket Numbers: ER12-1240-000.

Applicants: Nevada Power Company.

Description: Rate Schedule No. 124 ORNI 39 McGinness Hills Related PPA to be effective 4/8/2012.

Filed Date: 3/9/12.

Accession Number: 20120309-5150.

Comments Due: 5 p.m. ET 3/30/12.

Docket Numbers: ER12-1241-000.

Applicants: Alabama Power Company.

Description: PowerSouth NITSA Amendment (Add McVay-Scyrene Temporary Delivery Point) to be effective 3/1/2012.

Filed Date: 3/9/12.

Accession Number: 20120309-5185.

Comments Due: 5 p.m. ET 3/30/12.

Take notice that the Commission received the following electric securities filings:

Docket Numbers: ES12-26-000.

Applicants: Ameren Services Company, Union Electric Company.

Description: Ameren Services Company on behalf of Union Electric Company submits Application FPA Section 204 authorization.

Filed Date: 3/8/12.

Accession Number: 20120308-5207.

Comments Due: 5 p.m. ET 3/29/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2012.
Nathaniel J. Davis, Sr.,
Deputy Secretary.

[FR Doc. 2012-6512 Filed 3-16-12; 8:45 am]

BILLING CODE 6717-01-P